DEPARTMENT OF HEALTH AND HUMAN SERVICES

Administration for Children and Families

Office of Planning, Research and Evaluation; Grant to the National Fatherhood Initiative

AGENCY: Office of Planning, Research and Evaluation, ACF, DHHS.

ACTION: Award announcement.

SUMMARY: Notice is hereby given that a noncompetitive grant award is being made to the National Fatherhood Initiative to finance a targeted public education campaign throughout the year 2001. Funds will be utilized to write, produce, distribute, and market two new television public service announcements and to facilitate marketing, distribution, tracking, and follow-up activities conducted by the Ad Council and a prominent ad agency for the entire 2001 public education campaign.

As a Congressional setaside, this one-year project is being funded noncompetitively. The organization has unique experience to conduct a national public education campaign to strengthen responsible and committed fatherhood. The cost of this one-year project is $500,000.

FOR FURTHER INFORMATION CONTACT: Ken Maniha, Administration for Children and Families, Office of Planning, Research and Evaluation, 370 L'Enfant Promenade, SW., Washington, DC 20447, Phone: 202-401-5372.

Dated: March 29, 2001.
Howard Rolston,
Director, Office of Planning, Research and Evaluation.

[FR Doc. 01-8179 Filed 4-3-01; 8:45 am]

BILLING CODE 4184-01-M